DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed revision, and three-year extension of the Office of Management and Budget (OMB) expiration date of the form RW-859, “Nuclear Fuel Data Survey”.

DATES: Comments must be filed on or before September 10, 2001. If you anticipate difficulty in submitting comments within that period, contact the person listed below as soon as possible.

ADDRESS: Send comments to Jim Finucane, Office of Coal, Nuclear, Electric and Alternate Fuels, EI-52, Forrestal Building, U.S. Department of Energy, Washington, DC 20585-0650, telephone: (202) 287-1966, e-mail: jim.finucane@eia.doe.gov, and fax (202)-287-1934.

FOR FURTHER INFORMATION CONTACT: Requests for additional information or copies of any forms and instructions should be directed to Jim Finucane at the address listed above.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under section 3507(a) of the Paperwork Reduction Act of 1995.

This data collection will provide the Office of Civilian Radioactive Waste Management of DOE with detailed information concerning the spent nuclear fuel generated by the respondents (commercial utility generators of spent nuclear fuel within the U.S. are respondents to this survey). The DOE will take possession of this spent fuel and will need this data to properly design the spent fuel repository (spent fuel receiving systems, spent fuel handling systems, etc.) which will be the final disposal site for all of the spent fuel and high level radioactive waste materials.

II. Current Actions

The current proposed action is: a revision of and a three-year extension of an existing data collection, RW-859. As before, all data will be collected once. Only changes in the specific previously reported data element will require updating. Other changes to the Form RW-859 Nuclear Fuel Data survey are as follows:

—The requirement to enter each individual assembly identifier for all assemblies stored in a pool has been deleted from Section 4.3.1 “Storage Inventory”. It has been replaced with a single number indicating the number of assemblies in that pool.

—A column to the table has been added to Section 3 “Permanently Discharged Fuel” to indicate the pool in which an assembly is stored. This column replaces the requirement to re-enter all assembly identifiers in Section 4.3.1.

—Respondents may now enter either cycle number or cycle date in Section 3 “Permanently Discharged Fuel”. Only cycle date was previously accepted.

—Only data on permanently discharged fuel are collected in Section 3 “Permanently Discharged Fuel”.

—Respondents may now designate between Operating License Date and Possession Only License Date in Section 2.1 “Reactor License Data”.

—Burnup data may be submitted in gigawattdays thermal per metric ton of uranium instead of megawattdays thermal per metric ton of uranium.

—Section 4.6.4 “Canister Closure” has been simplified.

—Clarification has been provided on whether certain data should be entered in Section 4.6 “Canistered Material” or Section 4.7 “Uncanistered Fuel and Non-Fuel Components.”

—The requirement to enter each individual assembly identifier for all assemblies stored in dry storage has been deleted from Section 5.3 “Assemblies in Dry Storage”. It has been replaced with a single number indicating the number of assemblies in each module

—Footnotes have been modified to provide additional information.

—Instructions have been clarified and modified where appropriate. Specific changes have been made to the instructions regarding the transmittal of data to DOE, failed fuel status codes, reporting of midcycle fuel outages, license dates, required degrees of precision, and data on canistered fuel and non-fuel components.

The DOE will provide each respondent with a file which contains a copy of previously provided data with which to update. This revision will also facilitate the streamlining of data elements, which will be collected. Although this survey is planned for use in 2003, its extension at this time is being carried out to avoid its expiration at the end of 2001.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. Are the instructions and definitions clear and sufficient? If not, which instructions need clarification?

B. Can the information be submitted by the due date?

C. Public reporting burden for this collection is estimated to average 40 hours per response. The estimated burden includes the total time necessary to provide the requested information. In your opinion, how accurate is this estimate?

D. The agency estimates that the only cost to a respondent is for the time it will take to complete the collection. Will a respondent incur any start-up costs for reporting, or any recurring annual costs for operation, maintenance, and purchase of services associated with the information collection?

E. What additional actions could be taken to minimize the burden of this collection of information? Such actions may involve the use of automated, electronic, mechanical, or other technological collection techniques or other forms of information technology.

F. Does any other Federal, State, or local agency collect similar information? If so, specify the agency, the data element(s), and the methods of collection.

As a Potential User of the Information To Be Collected:

A. Is the information useful at the levels of detail to be collected?

B. For what purpose(s) would the information be used? Be specific.

C. Are there alternate sources for the information and are they useful? If so, what are their weaknesses and/or strengths?

Comments submitted in response to this notice will be summarized and/or included in the request for OMB approval of the form. They also will become a matter of public record.

Statutory Authority: Section 3506(c)(2)(A) and Section 3507(h)(i) of the Paperwork Reduction Act of 1995 (Pub. L. No. 104-13, 44 U.S.C. Chapter 35).

Issued in Washington, DC, July 2, 2001.
Jay H. Casselberry,
Agency Clearance Officer, Statistics and Methods Group, Energy Information Administration.

[FR Doc. 01-17172 Filed 7-9-01; 8:45 am]

BILLING CODE 6450-01-P